ENVIRONMENTAL PROTECTION AGENCY

[OPP-66292A; FRL-6823-8]

Fenamiphos and Metolachlor; Registered Uses Cancellation Order

AGENCY: Environmental Protection Agency (EPA).

ACTION: Notice.

SUMMARY: This notice announces the use cancellations as requested by the companies that hold the registrations of pesticide end-use and manufacturing-use products containing the active ingredient (a.i.) fenamiphos and metolachlor and accepted by EPA, pursuant to section 6(f) of the Federal Insecticide, Fungicide, and Rodenticide Act (FIFRA). This order follows up a September 20, 2001, notice of receipt of requests for voluntary cancellation of uses. EPA indicated that it would issue an order confirming the voluntary use cancellations unless the Agency received any substantive comment within the comment period that would merit its further review of these requests. Any distribution, sale, or use of fenamiphos and metolachlor products labeled for the canceled uses are only permitted in accordance with the terms of the existing stocks provisions of this cancellation order.

DATES: The cancellations are effective March 22, 2002.

FOR FURTHER INFORMATION CONTACT: By mail: Tawanda Spears, telephone number: (703) 308-8050; e-mail address: spears.tawanda@epa.gov (Fenamiphos) and Anne Overstreet, telephone number: (703) 308-8068; e-mail address: overstreet.anne@epa.gov (Metolachlor), Special Review and Reregistration Division (7508C), Office of Pesticide Programs, Environmental Protection Agency, 1200 Pennsylvania Ave., NW., Washington, DC 20460.

SUPPLEMENTARY INFORMATION:

General Information

A. Does this Action Apply to Me?

This action is directed to the public in general. You may be potentially affected by this action if you manufacture, sell, distribute, or use fenamiphos and/or metolachlor products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. In person. The Agency has established an official record for this action under docket control number OPP-66292A. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Receipt of Requests to Cancel and Amend Registrations to Delete Uses

A. Background

EPA is publishing a single notice in response to registrants' requests to delete some uses for fenamiphos and metolachlor from their labels. (See the table in this unit for specific information regarding the cancellation requests.)

Reregistration Eligibility Decision (RED) documents summarize the findings of EPA's reregistration process for individual chemical cases, and reflect the Agency's decisions on risk assessment and risk management for uses of individual pesticides. The metolachlor RED was issued in April of 1995. However, since the Federal Food, Drug, and Cosmetic Act (FFDCA) as amended by the Food Quality Protection Act (FQPA) of 1996, the Agency is required to reconsider metolachlor tolerances consistent with the provisions of the Act. This tolerance reassessment decision is scheduled to be completed in 2002. In defining the scope of this review, Syngenta, the metolachlor registrant, has elected to voluntarily drop certain uses from their manufacturing-use product label.

For fenamiphos, an organophosphate, a RED has not been issued. Although the Agency has not yet completed its cumulative risk assessment for a RED, the Agency is issuing an interim reregistration eligibility decision (IRED) to inform the public of the Agency's completion of assessment of risks associated with the active ingredient fenamiphos alone, any unreasonable adverse effect from the exposure to fenamiphos, and mitigation measures necessary to eliminate such unreasonable adverse effects to the environment. When the Agency completes assessing the cumulative effects of pesticides sharing a common effect of toxicity with fenamiphos, the Agency will issue a final decision on the reregistration eligibility of pesticides containing fenamiphos. As part of this process, Bayer has elected to delete certain uses from its product labels rather than develop the data necessary to support reregistration.

In the Federal Register notice published on September 20, 2001 (66 FR 48459) (FRL-6800-3), EPA published a notice of the Agency's receipt of requests for voluntary cancellation of uses from registrants that hold the pesticide registrations containing fenamiphos and metolachlor.

B. Requests for Voluntary Cancellation of Registered Uses

Pursuant to section 6(f)(1)(A) of FIFRA, the following companies have submitted a request to amend their end-use and manufacturing-use product registrations of pesticide products containing fenamiphos and metolachlor, respectively, to delete the listed uses from the listed product(s) bearing such use. The registrations, for which amendments to delete uses were requested, are identified in the following table.

Table 1.—Voluntary Cancellation of Registered Uses
Chemical | PC Code | Company/Address | Nature of Action | Products Affected | Comments
Fenamiphos | 100601 | Bayer Corp., 8400 Hawthorne Rd., P.O. Box 4913, Kansas City, MO, 64120-0013 | Cotton and pineapple use deletion | 3EC¹ [3125-283] 15G² [3125-236] | Cancel 3EC and 15G on cotton and 15G on pineapple
Metolachlor | 108801 | Syngenta Crop Protection, Inc., P.O. Box 18300, Greensboro, NC 27419-8300 | Stone fruits and almond use deletion | 100-587 |
¹ Nemacur 3 (emulsifiable concentrate - 3 lb a.i./gal)
² 15G: Nemacur 15% (granular formulation - 15% a.i./gal)

In the Federal Register notice, EPA requested public comment on the voluntary cancellation and use deletion requests, and provided a 30-day comment period. The registrants requested that the Administrator waive the 180-day comment period provided under FIFRA section 6(f)(1)(C). No public comments were submitted to the docket in response to EPA's request for comments.

III. Cancellation Order

Pursuant to section 6(f) of FIFRA, EPA is approving the requested use deletions and the requested registration cancellations. The Agency orders that the registrations of the uses identified in the table are hereby canceled. Any distribution, sale, or use of existing stocks of the products identified in the table (i.e., products bearing labeling for the canceled uses) in a manner inconsistent with the terms of this Order or the Existing Stock Provisions in Unit IV. of this Federal Register notice will be considered a violation of section 12(a)(2)(K) of FIFRA and/or section 12(a)(1)(A) of FIFRA.

IV. Existing Stocks Provisions

For purposes of this Order, the term “existing stocks” is defined, pursuant to EPA's existing stocks policy (56 FR 29362, June 26, 1991), as those stocks of a registered pesticide product which are currently in the United States and which have been packaged, labeled, and released for shipment prior to the effective date of the amendment or cancellation. The existing stocks provisions of this Cancellation Order are as follows:

1. Distribution or sale of manufacturing-use products by registrants. Distribution or sale by the registrant of the existing stocks of any product identified in Table 1 will not be lawful under FIFRA after 12 months from the effective date of the cancellation order, except for the purposes of shipping such stocks for export consistent with the requirements of section 17 of FIFRA, or proper disposal.

2. Distribution or sale of manufacturing-use products by others. Distribution or sale by persons other than the registrant of the existing stocks of any product identified in Table 1 will not be lawful under FIFRA after 24 months from the effective date of the cancellation order, except for the purposes of shipping such stocks for export consistent with the requirements of section 17 of FIFRA, or proper disposal.

List of Subjects

Environmental protection, Pesticides and pests.

Dated: March 11, 2002.
Jack E. Housenger,
Acting Director, Special Review and Reregistration Division, Office of Pesticide Programs.

[FR Doc. 02-6855 Filed 3-21-02; 8:45 am]

BILLING CODE 6560-50-S